DEPARTMENT OF HOUSING AND URBAN DEVELOPMENT

[Docket No. FR-5415-N-18]

Notice of Availability: Notice of Funding Availability for HUD's Fiscal Year 2010 Healthy Homes Production Program

AGENCY: Office of the Chief of the Human Capital Officer, HUD.

ACTION: Notice.

SUMMARY: HUD announces the availability on its Web site of the applicant information, submission deadlines, funding criteria, and other requirements for the FY2010 Healthy Homes Production Program. Approximately $10 million is made available through this NOFA, by the Consolidated Appropriations Act, 2010 (Pub. L. 111-117, approved December 16, 2009). The purpose of HUD's Healthy Homes Production Program is to prevent and correct significant housing-related health and safety hazards in low-income housing. This production-oriented grant program, modeled after the previously successful Healthy Homes Demonstration and Lead Hazard Control Grant Programs, will fund preventive and corrective measures to address housing-related health and safety hazards.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Healthy Homes Production Program is 14.913. Applications must be submitted electronically through Grants.gov.

FOR FURTHER INFORMATION CONTACT: For information concerning the Healthy Homes Production Program, you may contact Michelle M. Miller, Director, Programs Division, Office of Healthy Homes and Lead Hazard Control, Department of Housing and Urban Development; 451 Seventh Street, SW., Room 8236, Washington, DC 20410-3000; telephone 202-402-5769 (this is not a toll-free number); facsimile 202-755-1000; e-mail: Michelle.M.Miller@HUD.gov. Persons with speech or hearing impairments may access this telephone number via TTY by calling the toll-free Federal Relay Service during working hours at 800-877-8339.

Dated: September 27, 2010.
Barbara S. Dorf,
Director, Office of Departmental Grants Management and Oversight, Office of the Chief of the Human Capital Officer.

[FR Doc. 2010-24752 Filed 10-1-10; 8:45 am]

BILLING CODE 4210-67-P